DEPARTMENT OF TRANSPORTATION

Coast Guard

[USCG 2001-11105]

Collection of Information Under Review by Office of Management and Budget (OMB): OMB Control Number 2115-0638.

AGENCY: Coast Guard, DOT.

ACTION: Request for comments.

SUMMARY: In compliance with the Paperwork Reduction Act of 1995, the Coast Guard intends to seek the approval of OMB for the renewal of one Information Collection Request (ICR). The ICR concerns the National Survey of Recreational Boating. Before submitting the ICR to OMB, the Coast Guard is requesting comments on it.

DATES: Comments must reach the Coast Guard on or before February 12, 2002.

ADDRESSES: To make sure that your comments and related material do not enter the docket [USCG 2001-11105] more than once, please submit them by only one of the following means:

(1) By mail to the Docket Management Facility, U.S. Department of Transportation, room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit comments. Persons submitting comments should include their names and addresses, identify this document [USCG 2001-11105], and give the reasons for the comments. Please submit all comments and attachments in an unbound format no larger than 8½ by 11 inches, suitable for copying and electronic filing. Persons wanting acknowledgment of receipt of comments should enclose stamped self-addressed postcards or envelopes.

Information Collection Request

Title: The National Survey of Recreational Boating.

OMB Control Number: 2115-0638.

Summary: The mission of the national program of the U.S. Coast Guard on Safety of Recreational Boating to minimize the loss of life, the personal injury, the property damage, and the environmental impact associated with the use of recreational boats. The purpose of the national survey of recreational boating is to capture information from recreational boaters nationwide so we can better serve their needs and more effectively accomplish our mission. Information captured from the survey will enable us to better understand current boating practices, the types and number of boats used in each State, and the various types of activities associated with recreational boating. Our collecting this type of information from boaters across the nation is critical in our efforts to implement effective safety initiatives and activities with our partners in the States.

Need: In compliance with the Government Performance and Results Act (GPRA), the collection of information is necessary to: (1) Link the effectiveness of the national program to reductions in a person's risk of having a boating accident, (2) improve the effectiveness of the program by implementing well-defined goals, and (3) enhance policymaking by the Administration and Congress, spending decisions, and superintendence of the program using the best performance measures and safety indicators.

Respondents: Recreational boaters.

Frequency: Every three to five years.

Burden: The estimated burden is 11,458 hours a year.

Dated: December 7, 2001.
V.S. Crea,
Director of Information and Technology.

[FR Doc. 01-30839 Filed 12-13-01; 8:45 am]

BILLING CODE 4910-15-P